SECURITIES AND EXCHANGE COMMISSION

Sunshine Act Meeting Notice

Federal Register Citation of Previous Announcement: 71 FR 36569, June 27, 2006.

Status: Closed Meeting.

Place: 100 F Street, NE., Washington, DC.

Date and Time of Previously Announced Meeting: Thursday, June 29, 2006 at 2 p.m.

Change in the Meeting: Time Change.

The Closed Meeting scheduled for Thursday, June 29, 2006 at 2 p.m. has been changed to Thursday, June 29, 2006 at 1 p.m.

At times, changes in Commission priorities require alterations in the scheduling of meeting items. For further information and to ascertain what, if any, matters have been added, deleted or postponed, please contact the Office of the Secretary at (202) 551-5400.

Dated: June 27, 2006.
Nancy M. Morris,
Secretary.

[FR Doc. 06-5903 Filed 6-27-06; 10:51 am]

BILLING CODE 8010-01-P